DEPARTMENT OF THE TREASURY

Alcohol and Tobacco Tax and Trade Bureau

27 CFR Part 9

[Docket No. TTB-2020-0008; Notice No. 193]

RIN: 1513-AC58

Proposed Establishment of the Mount Pisgah, Polk County, Oregon Viticultural Area

AGENCY: Alcohol and Tobacco Tax and Trade Bureau, Treasury.

ACTION: Notice of proposed rulemaking.

SUMMARY: The Alcohol and Tobacco Tax and Trade Bureau (TTB) proposes to establish the approximately 5,850-acre “Mount Pisgah, Polk County, Oregon” viticultural area in Polk County, Oregon. The proposed viticultural area lies entirely within the Willamette Valley viticultural area. TTB designates viticultural areas to allow vintners to better describe the origin of their wines and to allow consumers to better identify wines they may purchase. TTB invites comments on this proposed addition to its regulations.

DATES: Comments must be received by November 30, 2020.

ADDRESSES: You may electronically submit comments to TTB on this proposal, and view copies of this document, its supporting materials, and any comments TTB receives on it within Docket No. TTB-2020-0008 as posted on Regulations.gov (https://www.regulations.gov), the Federal e-rulemaking portal. Please see the “Public Participation” section of this document below for full details on how to comment on this proposal via Regulations.gov or U.S. mail, and for full details on how to obtain copies of this document, its supporting materials, and any comments related to this proposal.

FOR FURTHER INFORMATION CONTACT: Kate M. Bresnahan, Regulations and Rulings Division, Alcohol and Tobacco Tax and Trade Bureau, 1310 G Street NW, Box 12, Washington, DC 20005; phone 202-453-1039, ext. 151.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). The Secretary has delegated the functions and duties in the administration and enforcement of these provisions to the TTB Administrator through Treasury Order 120-01, dated December 10, 2013 (superseding Treasury Order 120-01, dated January 24, 2003).

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and provides that any interested party may petition TTB to establish a grape-growing region as an AVA. Section 9.12 of the TTB regulations (27 CFR 9.12) prescribes the standards for petitions for the establishment or modification of AVAs. Petitions to establish an AVA must include the following:

• Evidence that the area within the proposed AVA boundary is nationally or locally known by the AVA name specified in the petition;

• An explanation of the basis for defining the boundary of the proposed AVA;

• A narrative description of the features of the proposed AVA affecting viticulture, such as climate, geology, soils, physical features, and elevation, that make the proposed AVA distinctive and distinguish it from adjacent areas outside the proposed AVA;

• The appropriate United States Geological Survey (USGS) map(s) showing the location of the proposed AVA, with the boundary of the proposed AVA clearly drawn thereon;

• If the proposed AVA is to be established within, or overlapping, an existing AVA, an explanation that both identifies the attributes of the proposed AVA that are consistent with the existing AVA and explains how the proposed AVA is sufficiently distinct from the existing AVA and therefore appropriate for separate recognition; and

• A detailed narrative description of the proposed AVA boundary based on USGS map markings.

Mount Pisgah, Polk County, Oregon Petition

TTB received a petition from the representatives of the vineyards and wineries within the proposed Mount Pisgah, Polk County, Oregon viticultural area, proposing the establishment of the “Mount Pisgah, Polk County, Oregon” AVA.

The proposed Mount Pisgah, Polk County, Oregon AVA is located within Polk County, Oregon. The proposed AVA lies entirely within the established Willamette Valley AVA (27 CFR 9.90) and does not overlap any other existing or proposed AVA. The proposed Mount Pisgah, Polk County, Oregon AVA contains approximately 5,850 acres, with 10 commercially-producing vineyards covering a total of 531 acres distributed throughout the proposed AVA. The petition states that an additional 164 acres in total will soon be added to 4 of the existing vineyards. Two wineries are also located within the proposed AVA.

According to the petition, the distinguishing features of the proposed Mount Pisgah, Polk County, Oregon AVA include its climate, geology, soils, and topography. Unless otherwise noted, all information and data pertaining to the proposed AVA contained in this document are from the petition for the proposed Mount Pisgah, Polk County, Oregon AVA and its supporting exhibits.

Name Evidence

The petition states that the proposed Mount Pisgah, Polk County, Oregon gets its name from the 835-foot mountain on which the proposed AVA is located. According to the petition, Colonel Cornelius Gilliam named Mount Pisgah, a small mountain near where he settled in Dallas, Oregon in 1845, after the Mount Pisgah near his home in Missouri. The petition included several examples that demonstrate the long-term use of the name “Mount Pisgah” to describe the region of the proposed AVA. For example, in a 1915 account of her journey from Illinois to Polk County and her first years there, Mary Dempsey Bronson recalled her first picnic in Oregon, which was “a May Day picnic on Mount Pisgah” in 1865.¹ An excerpt from the 1927 edition of Polk County Geographic Names includes a reference to Mount Pisgah.² A Mount Pisgah local chapter of the Oregon Farmers' Union was active from the 1930s through the 1950s. Mount Pisgah Fruit Farms appeared on Metzger maps of the region as late as 1962, according to the petition.

¹ Mary J. Dempsey Bronson, “My Trip Across the Plains,” available at http://genealogytrails.com/ore/polk/biographies/polkcountypioneers1.html (last accessed June 8, 2020).

² Lewis A. McArthur, Oregon Geographic Names, Oregon Historical Society, Portland, Oregon, 1974.

The petition states that currently, the name “Mount Pisgah” is still used to describe the region. The mountain that forms the majority of the proposed AVA is labeled “Mount Pisgah” on the current United States Geological Survey (USGS) Dallas, Oregon, quadrangle map, as well as on Google Maps, OpenStreetMap, and other map websites, according to the petition. Furthermore, Mt. Pisgah Orchards is a company doing business within the proposed AVA.

Boundary Evidence

The boundary of the proposed Mount Pisgah, Polk County, Oregon viticultural area is defined by the shape of the mountain, according to the petition. Clear divisions of climate, geology, soils, elevation, and topography informed the creation of the boundary. The boundary follows a series of roads and elevation contours to separate the mountain that forms the proposed AVA from the surrounding lower, flatter valley floor, with its alluvial soils and warmer, windier climate.

Distinguishing Features

The distinguishing features of the proposed Mount Pisgah, Polk County, Oregon AVA include its temperature, wind speed, geology, soils, elevation, and topography.

Temperature

The petitioner collected temperature data from one location within and two locations outside of the proposed Mount Pisgah, Polk County, Oregon AVA. The petitioner collected the data from April through October during the period of 2014-2016 from Croft Vineyard within the proposed AVA; the airport at Salem in the Willamette Valley AVA, 18 miles east of the proposed AVA; and the airport at McMinnville, which is located within the Willamette Valley AVA and adjacent to the McMinnville AVA, 23 miles north-north-east of the proposed AVA. The petition did not include temperature data from the regions to the north, south, or west of the proposed AVA.

The petition states that the proposed Mount Pisgah, Polk County, Oregon AVA is cooler than the surrounding areas, with an average of 2,543 growing degree days (GDD) ³ over the three years, making it a low region II on the Winkler Scale.⁴ The petitioner notes that the 2014-2016 growing seasons for the proposed AVA were warmer than usual, and that a more typical year's GDD average would place the proposed AVA in the cooler Winkler region 1b. However, the petitioner did not include data to support this claim. Over the same period of time, Salem had an average of 2,903 GDD per year, making it a high region II on the Winkler Scale. McMinnville had an average of 2,661 GDD over the same period of time, making it a mid-region II on the Winkler Scale, according to the petition.

³ See Albert J. Winkler, General Viticulture (Berkeley: University of California Press, 1974), pages 61-64. In the Winkler climate classification system, annual heat accumulation during the growing season, measured in annual GDDs, defines climatic regions. One GDD accumulates for each degree Fahrenheit that a day's mean temperature is above 50 degrees F, the minimum temperature required for grapevine growth.

⁴ Id. In the Winkler scale, the GDD regions are defined as follows: Region I = less than 2,500 GDDs; Region II = 2,501-3,000 GDDs; Region III = 3,001-3,500 GDDs; Region IV = 3,501-4,000 GDDs; Region V = greater than 4,000 GDDs.

The petition notes that the difference in temperature between the proposed Mount Pisgah, Polk County, Oregon AVA and its surrounding areas has an important impact on viticulture. Winkler identified pinot noir, pinot gris, and chardonnay as grape varietals that are typically grown in regions classified as region 1b. According to the petition, approximately 90 percent of the grapes planted in the proposed AVA are pinot noir, pinot gris, and chardonnay.

Wind Speed

According to the petition, to the north of the proposed Mount Pisgah, Polk County, Oregon AVA are the lower-elevation areas near the towns of Dallas, Perrydale, and Rickreall. In these areas, the coastal winds enter the Willamette Valley through the Van Duzer Corridor wind gap in the mountains of the Coast Range. The petition states that the Willamette Valley also experiences north and south winds along the valley floor. The petition states that the proposed AVA is protected from the Pacific coastal winds by the higher elevations of the Coast Range to the west, and from the valley floor winds due to its higher elevations. As a result, the proposed AVA has a much lower average wind speed than the surrounding areas.

The petition included growing season wind speed data from 2014-2016 collected from within the proposed Mount Pisgah, Polk County, Oregon AVA and the regions to the east and north-northeast of the proposed AVA. The data shows that Salem has the highest average wind speed (6.1 mph); McMinnville has a slightly lower average wind speed (5.2 mph); and the proposed AVA has a much lower average wind speed (2.3 mph). According to the Oregon Annual Average Wind Speed map included in the petition, the nearby established Van Duzer Corridor AVA (27 CFR 9.265) to the north and the established Eola-Amity Hills AVA (27 CFR 9.202) to the north-northeast have average wind speeds between 5.0 and 6.0 meters per second (m/s), while the proposed AVA has an average wind speed of 4.5 m/s.⁵

⁵ National Renewable Energy Laboratory, https://windexchange.energy.gov/maps-data/104 (last accessed October 25, 2018).

The petition quotes climatologist Gregory V. Jones when describing the impact winds have on viticulture: “During the early stages of vegetative growth, high winds can break new shoots, delaying and even reducing the amount of flowering. As the berries proceed through vèraison and into the maturation stage, high winds can be very effective at desiccating the fruit and can result in lower volume * * *.” ⁶ The petition adds that wind affects the composition of berries, humidity in vineyards, susceptibility to fungal infection, the microflora on berries, and the temperature during the ripening period as well as during spring and fall freezes.⁷

⁶ Gregory Jones, “Climate Grapes, and Wine—Terroir and the Importance of Climate to Winegrape Production,” August 12, 2015, available at https://www.guildsomm.com/public_content/features/articles/b/gregory_jones/posts/climate-grapes-and-wine (last accessed June 8, 2020).

⁷ UC Davis, “Vineyard Impacts on Flora,” available at https://wineserver.ucdavis.edu/industry-info/enology/fermentation-management-guides/wine-fermentation/vineyard-impacts-flora (last accessed June 8, 2020).

Geology

The petition states that the proposed Mount Pisgah, Polk County, Oregon AVA is bounded topographically around a unique geological formation that occurs only within the proposed AVA. Other Oregon AVAs have sedimentary soils, but they do not have the combination of these soils with an ancient parent material. The parent material of the mountain comes from the Siletz River volcanics of the middle and lower Eocene and Paleocene (approximately 40 to 60 million years ago). The rocks are zeolotized (contain aluminum) and veined with calcite, and were sea floor mountains. The Siletz River volcanics are exposed near the summit of Mount Pisgah, where it directly affects the soils and viticulture. The Siletz River volcanics are the oldest rocks in the Willamette Valley, and occur below marine sediments six miles from the Willamette River, which makes the proposed AVA unique, according to the petition.

According to the petition, 97.2 percent of the soils within the proposed Mount Pisgah, Polk County, Oregon AVA contain colluvium or residuum as parent material, both of which are ancient sedimentary soils that form different soil horizons. The only alluvial parent material in the area is old alluvium coming from the Missoula Flood, which comprises 2.1 percent of the area.

The petition states that the geology of the areas surrounding the proposed Mount Pisgah, Polk County, Oregon AVA are different than that within the proposed AVA. The area to the north of the proposed AVA is comprised of alluvial parent material from the quaternary period, silt, and sand. The area to the west of the proposed AVA is made up of marine siltstone and basalt sandstone. The area to the south of the proposed AVA is alluvial creek beds between formation of siltstone and sandstone. Finally, the area to the east of the proposed AVA is made from alluvial parent material from the quaternary period, silt, and sand, according to the petition.

According to Ted Goldammer's Grape Grower's Handbook, “The nature of the parent material can have a profound influence on the characteristics of the soil. The mineralogy of the parent material is mirrored in the soil and can determine the weathering process and control the natural vegetation composition.” ⁸ A research article on grapevine rooting patters by David R. Smart et al. states, “Grapevines, as a group, appear to have proportionally deeper root distributions * * * compared to many plants in natural ecosystems.” ⁹ The article also states that in viticulture, mature grape roots may reach 20 feet and may penetrate multiple soil horizons, accessing different minerals. Because the geology of the proposed AVA is different from that of the surrounding regions, grapevine roots within the proposed AVA will have access to a different set of minerals and nutrients than grapevines grown elsewhere.

⁸ Ted Goldammer. Grape Grower's Handbook. Centreville, Virginia: Apex Publishers, 2013. p. 324.

⁹ David R. Smart, Erin Schwass, Alan Lakso, and Lisa Morano. “Grapevine Rooting Patterns: A Comprehensive Analysis and a Review.” American Journal of Enology and Viticulture. March 2006, vol. 57: 89-104.

Soils

The petition states that the weathered soils in the upper layers of the proposed Mount Pisgah, Polk County, Oregon AVA contain fine to coarse grains with calcareous concretions and are carbonaceous and micaceous. These soils are generally classified as marine sediments and have a combination of shallow topsoil and clayey and silty subsoils. The main soil series in the proposed AVA are marine silty clay loams, including Bellpine, Jory, Nekia, Rickreall, Willakenzie, and others. Silty clay loams make up 92.1 percent of all soils within the proposed AVA. In his Grape Grower's Handbook, Ted Goldammer writes, “The primary soil property in determining a suitable site is soil texture * * *. Texture affects the water holding capacity of the soils and internal water drainage.” ¹⁰

¹⁰ Supra note 8.

The petition states that soil drainage class is important to grape growth during the growing season. According to a USDA soil drainage classification map included in the petition, approximately 92 percent of the soils within the proposed AVA are well drained or moderately well drained. The USDA defines well drained soils as soils in which water is removed readily, but not rapidly. Well drained soils are commonly medium textured. Water is available for plants throughout most of the growing season, and soil wetness does not inhibit the growth of roots for significant periods.¹¹ The USDA defines moderately well drained soils as soils in which water is removed somewhat slowly during some periods.¹² Grapes are particularly sensitive to high water levels, according to the petition.

¹¹ USDA Soil Survey for Polk County, Oregon (1982 ed.), p.151, available at https://www.nrcs.usda.gov/internet/FSE_MANUSCRIPTS/oregon/polkOR1982/polkOR1982.pdf. (last accessed June 8, 2020).

¹² Id.

However, grapes do need some water in the summer months, and, according to the petition, available water capacity in the proposed AVA is moderately high. A map of available water capacity of the soils of the proposed AVA and the surrounding regions shows the values of the soils in the proposed AVA range narrowly from 0.16 to 0.12 centimeters (cm) of water to 1 cm of soil, which enables dry farming. Hydraulic conductivity of soil is a linear measurement that describes the ease with which water moves through soil when it is saturated. It is measured in Ksat. According to the petition, a balanced Ksat value allows for root penetration at slow but acceptable rates. According to a map of Ksat values of the soils of the proposed AVA and surrounding regions that was included in the petition, the proposed AVA has Ksat ratings between 3.0 and 4.7, which constitutes a balanced distribution when it comes to hydraulic conductivity.

The petition states that the areas surrounding the proposed Mount Pisgah, Polk County, Oregon AVA have different soil characteristics, as they all contain alluvial deposits from the recent quaternary period, instead of sedimentary deposits. To the north of the proposed AVA, soils are clayey alluvium, have a lower Ksat rating, and are more poorly drained. To the west of the proposed AVA, the soils are alluvial loam, have a lower Ksat rating, and are more poorly drained. To the south of the proposed AVA, soils are silty alluvial and have a lower Ksat rating. According to the petition, soils to the south of the proposed AVA are also not as well drained as the soils of the proposed AVA, even though the differences in soil drainage are not as easily visible on the soil drainage map as they are in other surrounding regions. To the east of the proposed AVA, soils are silty alluvium and alluvial loam, have a higher Ksat rating, and are also more poorly drained.

Elevation and Topography

The petition states that the proposed Mount Pisgah, Polk County, Oregon AVA is located on a small mountain among the hills of the Willamette Valley AVA. The foot of the mountain, which marks the edges of the proposed AVA, is at 260 feet. The top of the Mount Pisgah, at 835 feet, is within the range of elevation for typical wine-grape production in the region. All wine-grape production in the proposed AVA occurs between 750 and 260 feet in elevation, which allows for adequate heat accumulation and cold air drainage. The proposed AVA is also contains several creeks, including Fern Creek, Cooper Creek, and multiple forks of Ash Creek. The elevations and topography of the proposed AVA help protect the vineyards from frost damage in the spring and fall, as cool air drains down the hillsides and creeks to the lower-elevation areas that occur in all directions outside of the proposed AVA.

The petition also states that the proposed Mount Pisgah, Polk County, Oregon AVA has south-facing slopes. By contrast, the region to the south of the proposed AVA, on the slopes of Fishback Hill, faces north. The difference in slope direction has an effect on viticulture. According to the petition, “On a south-facing slope and a north-facing, plants grow differently. Even if the soils are the same, there is different response to temperatures, different emergence times, and different development rates. The temperature variation across the field itself may be on the order of 5 °F.¹³ In growing degree days over a seven-month season, this could change the total by more than 500 GDDs at 5 °F (for only half the day)—very significant considering the yearly totals mentioned earlier in this document.” The petition states that grapes in Oregon are rarely planted on north-facing slopes for that reason.

¹³ Iowa State University Department of Agronomy, “GDD Inaccuracies,” available at http://agron-www.agron.iastate.edu/courses/Agron541/classes/541/lesson03a/3a.4.2.html (last accessed June 8, 2020).

Summary of Distinguishing Features

In summary, the temperature, wind speed, geology, soils, and elevation and topography of the proposed Mount Pisgah, Polk County, Oregon AVA distinguish it from the surrounding regions. The proposed AVA had an average of 2,543 GDDs and an average wind speed of 2.3 miles per hour between 2014 and 2016. Geologically, the proposed AVA contains Siletz River volcanics parent material that is unique in Oregon AVAs. The majority of the soils in the proposed AVA are silty clay loams. The proposed AVA is a small mountain, where wine grapes grow between 260 and 750 feet in elevation. The following table, derived from information in the petition, compares the features of the proposed AVA to the features of the surrounding areas.

Distinguishing feature | Direction from proposed AVA | Description of difference
Temperature and Growing Degree Days | North, East | Warmer with higher GDD accumulations.
Wind | North, East | Higher wind speeds.
Geology | North, South, East, West | No Siletz River volcanics parent material; alluvial parent material.
Soils | North, South, East, West | Poorly-drained alluvial soils in each direction; lower Ksat values to north, west, and south, and higher values to the east.
Elevation | North, East, West | Lower elevations.
Topography | North, South, East, West | Topography flattens to north, east, and west; rises to a north-facing slope to the south.

Comparison of the Proposed Mount Pisgah, Polk County, Oregon AVA to the Existing Willamette Valley AVA

T.D. ATF-162, which published in the Federal Register on December 1, 1983 (48 FR 54221), established the Willamette Valley AVA in northwest Oregon. The Willamette Valley AVA is one of nine physiographic regions in Oregon and it is described as a “broad alluvial plain” with a unique and homogeneous climate. Temperatures in the Willamette Valley AVA are mild, averaging 40 °F in the winter and 75 °F in the summer. The area averages 40 inches of rainfall per year. The Willamette Valley AVA contains two basic types of soil—silty loam and clay loam.

The proposed Mount Pisgah, Polk County, Oregon AVA is located 15 miles west of Salem, Oregon, and would be the southernmost AVA within the Willamette Valley AVA, and it shares some broad characteristics with the established AVA. Like the established AVA, the proposed AVA does not contain elevations above 1,000 feet above sea level. Additionally, both areas contain mostly silty and clay loam soils. However, the proposed AVA differs from the Willamette Valley AVA because it is located entirely on a small mountain. Thus, it has slightly lower temperatures than other regions within the Willamette Valley AVA. Wind speeds within the proposed AVA are also lower than in other parts of the Willamette Valley AVA, due to its elevation. Lastly, the proposed AVA contains Siletz River volcanics parent material, a unique geological feature which only occurs within the proposed AVA.

TTB Determination

TTB concludes that the petition to establish the approximately 5,850-acre Mount Pisgah, Polk County, Oregon AVA merits consideration and public comment, as invited in this notice of proposed rulemaking.

Boundary Description

See the narrative description of the boundary of the petitioned-for AVA in the proposed regulatory text published at the end of this proposed rule.

Maps

The petitioner provided the required maps, and they are listed below in the proposed regulatory text. You may also view the proposed Mount Pisgah, Polk County, Oregon AVA boundary on the AVA Map Explorer on the TTB website, at https://www.ttb.gov/wine/ava-map-explorer.

Impact on Current Wine Labels

Part 4 of the TTB regulations prohibits any label reference on a wine that indicates or implies an origin other than the wine's true place of origin. For a wine to be labeled with an AVA name or with a brand name that includes an AVA name or other term identified as being viticulturally significant in part 9 of the TTB regulations, at least 85 percent of the wine must be derived from grapes grown within the area represented by that name or other term, and the wine must meet the other conditions listed in 27 CFR 4.25(e)(3). If the wine is not eligible for labeling with an AVA name or other viticulturally significant term and that name or term appears in the brand name, then the label is not in compliance and the bottler must change the brand name and obtain approval of a new label. Similarly, if the AVA name or other viticulturally significant term appears in another reference on the label in a misleading manner, the bottler would have to obtain approval of a new label. Different rules apply if a wine has a brand name containing an AVA name or other viticulturally significant term that was used as a brand name on a label approved before July 7, 1986. See § 4.39(i)(2) of the TTB regulations (27 CFR 4.39(i)(2)) for details.

If TTB establishes this proposed AVA, its name, “Mount Pisgah, Polk County, Oregon,” will be recognized as a name of viticultural significance under § 4.39(i)(3) of the TTB regulations (27 CFR 4.39(i)(3)). TTB also proposes to designate “Mt. Pisgah, Polk County, Oregon” as a term of viticultural significance. The text of the proposed regulation clarifies this point. Consequently, wine bottlers using the name “Mount Pisgah, Polk County, Oregon” in a brand name, including a trademark, or in another label reference as to the origin of the wine, would have to ensure that the product is eligible to use the AVA name as an appellation of origin if this proposed rule is adopted as a final rule. TTB is not proposing to make “Mount Pisgah” a term of viticultural significance due to the number of locations known as “Mount Pisgah” within the United States. Finally, TTB is proposing to allow the word “Mount” to be abbreviated as “Mt.” in the name of the proposed AVA, if the proposed AVA is established.

The approval of the proposed Mount Pisgah, Polk County, Oregon AVA would not affect any existing AVA, and any bottlers using “Willamette Valley” as an appellation of origin or in a brand name for wines made from grapes grown within the Willamette Valley would not be affected by the establishment of this new AVA. The establishment of the proposed Mount Pisgah, Polk County, Oregon AVA would allow vintners to use “Mount Pisgah, Polk County, Oregon” and “Willamette Valley” as appellations of origin for wines made from grapes grown within the proposed Mount Pisgah, Polk County, Oregon AVA, if the wines meet the eligibility requirements for the appellation.

Public Participation

Comments Invited

TTB invites comments from interested members of the public on whether it should establish the proposed AVA. TTB is also interested in receiving comments on the sufficiency and accuracy of the name, boundary, soils, climate, and other required information submitted in support of the petition. In addition, given the proposed Mount Pisgah, Polk County, Oregon AVA's location within the existing Willamette Valley AVA, TTB is interested in comments on whether the evidence submitted in the petition regarding the distinguishing features of the proposed AVA sufficiently differentiates it from the existing Willamette Valley AVA. TTB is also interested in comments on whether the geographic features of the proposed AVA are so distinguishable from the surrounding Willamette Valley AVA that the proposed Mount Pisgah, Polk County, Oregon AVA should no longer be part of that AVA. Please provide any available specific information in support of your comments.

Because of the potential impact of the establishment of the proposed Mount Pisgah, Polk County, Oregon AVA on wine labels that include the term “Mount Pisgah, Polk County, Oregon” as discussed above under Impact on Current Wine Labels, TTB is particularly interested in comments regarding whether there will be a conflict between the proposed AVA name and currently used brand names. If a commenter believes that a conflict will arise, the comment should describe the nature of that conflict, including any anticipated negative economic impact that approval of the proposed AVA will have on an existing viticultural enterprise. TTB is also interested in receiving suggestions for ways to avoid conflicts, for example, by adopting a modified or different name for the AVA.

Submitting Comments

You may submit comments on this notice by using one of the following two methods:

• Federal e-Rulemaking Portal: You may send comments via the online comment form posted with this notice within Docket No. TTB-2020-0008 on “Regulations.gov,” the Federal e-rulemaking portal, at https://www.regulations.gov. A direct link to that docket is available under Notice No. 193 on the TTB website at https://www.ttb.gov/wine/wine-rulemaking.shtml. Supplemental files may be attached to comments submitted via Regulations.gov. For complete instructions on how to use Regulations.gov, visit the site and click on the “Help” tab.

• U.S. Mail: You may send comments via postal mail to the Director, Regulations and Rulings Division, Alcohol and Tobacco Tax and Trade Bureau, 1310 G Street NW, Box 12, Washington, DC 20005.

Please submit your comments by the closing date shown above in this notice. Your comments must reference Notice No. 193 and include your name and mailing address. Your comments also must be made in English, be legible, and be written in language acceptable for public disclosure. TTB does not acknowledge receipt of comments, and TTB considers all comments as originals.

In your comment, please clearly state if you are commenting for yourself or on behalf of an association, business, or other entity. If you are commenting on behalf of an entity, your comment must include the entity's name, as well as your name and position title. If you comment via Regulations.gov, please enter the entity's name in the “Organization” blank of the online comment form. If you comment via postal mail or hand delivery/courier, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this notice, selected supporting materials, and any online or mailed comments received about this proposal within Docket No. TTB-2020-0008 on the Federal e-rulemaking portal, Regulations.gov, at https://www.regulations.gov. A direct link to that docket is available on the TTB website at https://www.ttb.gov/wine/wine_rulemaking.shtml under Notice No. 193. You may also reach the relevant docket through the Regulations.gov search page at https://www.regulations.gov. For information on how to use Regulations.gov, click on the site's “Help” tab.

All posted comments will display the commenter's name, organization (if any), city, and State, and, in the case of mailed comments, all address information, including email addresses. TTB may omit voluminous attachments or material that the Bureau considers unsuitable for posting.

You may also obtain copies of this proposed rule, all related petitions, maps and other supporting materials, and any electronic or mailed comments that TTB receives about this proposal at 20 cents per 8.5- × 11-inch page. Please note that TTB is unable to provide copies of USGS maps or any similarly-sized documents that may be included as part of the AVA petition. Contact TTB's Regulations and Rulings Division by email using the web form at https://www.ttb.gov/contact-rrd, or by telephone at 202-453-1039, ext. 175, to request copies of comments or other materials.

Regulatory Flexibility Act

TTB certifies that this proposed regulation, if adopted, would not have a significant economic impact on a substantial number of small entities. The proposed regulation imposes no new reporting, recordkeeping, or other administrative requirement. Any benefit derived from the use of an AVA name would be the result of a proprietor's efforts and consumer acceptance of wines from that area. Therefore, no regulatory flexibility analysis is required.

Executive Order 12866

It has been determined that this proposed rule is not a significant regulatory action as defined by Executive Order 12866 of September 30, 1993. Therefore, no regulatory assessment is required.

Drafting Information

Kate M. Bresnahan of the Regulations and Rulings Division drafted this notice of proposed rulemaking.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.___ to read as follows:

§ 9.___ Mount Pisgah, Polk County, Oregon.

(a) Name. The name of the viticultural area described in this section is “Mount Pisgah, Polk County, Oregon”. For purposes of part 4 of this chapter, “Mount Pisgah, Polk County, Oregon” and “Mt. Pisgah, Polk County, Oregon” are terms of viticultural significance.

(b) Approved maps. The two United States Geological Survey (USGS) 1:24,000 scale topographic maps used to determine the boundary of the Mount Pisgah, Polk County, Oregon viticultural area are titled:

(1) Dallas, OR, 2014; and

(2) Airlie North, OR, 2014.

(c) Boundary. The Mount Pisgah, Polk County, Oregon viticultural area is located in Polk County, Oregon. The boundary of the Mount Pisgah, Polk County, Oregon viticultural area is as described below:

(1) The beginning point is on the Dallas map at the point where the 320-foot elevation contour intersects Mistletoe Road south of the unnamed road known locally as SE Lewis Street. From the beginning point, proceed south along Mistletoe Road for approximately 2 miles to the road's second intersection with the 740-foot elevation contour; then

(2) Proceed due west approximately 0.5 miles to the 400-foot elevation contour; then

(3) Proceed south along the 400-foot elevation contour, crossing onto the Airlie North map, to the contour's intersection with Cooper Hollow Road near Fisher Reservoir; then

(4) Proceed southeasterly along Cooper Hollow Road to its intersection with McCaleb Road; then

(5) Proceed east, then northeast, then east along McCaleb Road for approximately 1.6 miles to its intersection with Mistletoe Road and the 260-foot elevation contour; then

(6) Proceed easterly along the 260-foot elevation contour until it intersects again with Mistletoe Road; then

(7) Proceed east along Mistletoe Road for 0.3 mile to its intersection with Matney Road; then

(8) Proceed north along Matney Road for 0.6 mile to its intersection with the 260-foot elevation contour at a 90 degree turn in the road; then

(9) Proceed northwesterly along the 260-foot elevation contour to its intersection with Bursell Road; then

(10) Proceed east along Bursell Road for 0.2 mile to its intersection with the 260-foot elevation contour; then

(11) Proceed north along the 260-foot elevation contour, crossing onto the Dallas map, to the contour's intersection with Whiteaker Road; then

(12) Proceed southeasterly along Whiteaker Road for 1.0 mile to its intersection with the 260-foot elevation contour at a 90 degree turn in the road; then

(13) Proceed north, then west along the 260-foot elevation contour to its intersection with Ballard Road; then

(14) Proceed south along Ballard Road to its intersection with the 300-foot elevation contour; then

(15) Proceed northwesterly along the 300-foot elevation contour, to its intersection with Cherry Knoll Road; then

(16) Proceed south along Cherry Knoll Road to its intersection with the 320-foot elevation contour; then

(17) Proceed northwesterly along the 320-foot elevation contour, returning to the beginning point.

Signed: May 28, 2020.
Mary G. Ryan,
Acting Administrator.
Approved: June 17, 2020.
Timothy E. Skud,
Deputy Assistant Secretary, (Tax, Trade, and Tariff Policy).

Editorial Note: This document was received for publication by the Office of the Federal Register on August 11, 2020.

[FR Doc. 2020-17854 Filed 9-30-20; 8:45 am]

BILLING CODE 4810-31-P